DEPARTMENT OF COMMERCE

Technology Administration

Submission for OMB Review; Comment Request

The Department of Commerce (DOC) has submitted to the Office of Management and Budget (OMB) for clearance the following proposal for collection of information under the provisions of the Paperwork Reduction Act (44 U.S.C. Chapter 35). This request is being submitted under the regular 30-day processing procedures of the Paperwork Reduction Act.

Agency: Technology Administration.

Title: National Medal of Technology Nomination Applications.

Agency Form Number(s): None.

OMB Approval Number: 0692-0001.

Type of Request: Reinstatement.

Burden: 2550 hours.

Number of Respondents: 102.

Average Hours Per Respondents: 25 hours.

Needs and Uses: This information collection is critical for the Nomination Evaluation Committee to determine nomination eligibility and merit according to specified criteria for the annual selection of the Nation's leading technological innovators honored by the President of the United States. This information is needed in order to comply with P.L. 105-309. Comparable information is not available on a standardized basis.

Affected Public: Individuals, households, business and other for-profit.

Frequency: Annually.

Respondent's Obligation: Voluntary.

OMB Desk Officer: David Rostker, (202) 395-3897.

Copies of the above information collection proposal can be obtained by calling or writing Linda Engelmeier, DOC Forms Clearance Officer, (202) 482-3272, Department of Commerce, Room 6086, 1401 Constitution Avenue, NW, Washington, DC 20230 (or via Internet at lengelme@doc.gov).

Written comments and recommendations for the proposed information collection should be sent no later than 30 days after publication of this notice, to Director, National Medal of Technology, Room 4226, Washington, DC 20230.

Dated: July 7, 2000.
Madeleine Clayton,
Management Analyst, Office of the Chief Information Officer.

[FR Doc. 00-17717 Filed 7-12-00; 8:45 am]

BILLING CODE 3510-18-M